DEPARTMENT OF THE INTERIOR

Fish and Wildlife Service

Notice of Receipt of Endangered Species Permit Applications

AGENCY: Fish and Wildlife Service, Interior.

ACTION: Notice of receipt.

SUMMARY: We announce our receipt of applications to conduct certain activities pertaining to scientific research and enhancement of survival of endangered species.

DATES: Written comments on these requests for permits must be received August 29, 2002.

ADDRESSES: Written data or comments should be submitted to the Assistant Regional Director-Ecological Services, U.S. Fish and Wildlife Service, P.O. Box 25486, Denver Federal Center, Denver, Colorado 80225-0486; telephone 303-236-7400, facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

SUPPLEMENTARY INFORMATION: The following applicants have requested renewal of scientific research and enhancement of survival permits to conduct certain activities with endangered species pursuant to section 10(a)(1)(A) of the Endangered Species Act of 1973, as amended (16 U.S.C. 1531 et seq.).

Applicant: North Eastern Wisconsin Zoo, Green Bay, Wisconsin, TE-051829.

The applicant requests a permit to possess black-footed ferrets (Mustela nigripes) for public display in conjunction with recovery activities for the purpose of enhancing the species' survival and recovery.

Applicants: Dawn Martin, Buys and Associates, Inc., Englewood, Colorado, TE-056165; Kris R. Gruwell, HDR Engineering, Inc., Salt Lake City, Utah, TE-058896.

The applicants request permits to survey for southwestern willow flycatchers (Empidonaz traillii extimus) in conjunction with recovery activities throughout the species' range for the purpose of enhancing its survival and recovery.

Applicant: Central Nebraska Public Power and Irrigation District, Gothenburg, Nebraska, TE-038221.

The applicant requests a permit amendment to add take of interior least terns (Sterna antillarum athalassos) and piping plovers (Charadrius melodus) in conjunction with recovery activities throughout the species' range for the purpose of enhancing their survival and recovery.

Applicant: Scott W. Campbell, University of Kansas, Kansas Biological Survey, Lawrence, Kansas, TE-038527.

We propose to amend this permit for additional Topeka shiner (Notropis topeka) collection from Willow Creek, Wallace County, Kansas, in conjunction with reintroduction and recovery activities throughout the species' range for the purpose of enhancing its survival and recovery.

Applicant: Kevin R. Bestgen, Colorado State University, Fort Collins, Colorado, TE-046795.

The applicant requests a permit amendment to add take of humpback chub (Gila cypha) in conjunction with recovery activities throughout the species' range for the purpose of enhancing its survival and recovery.

Dated: June 28, 2002.
John A. Blankenship,
Deputy Regional Director, Denver, Colorado.

[FR Doc. 02-19168 Filed 7-29-02; 8:45 am]

BILLING CODE 4310-55-P